DEPARTMENT OF COMMERCE

International Trade Administration

Initiation of Antidumping and Countervailing Duty Administrative Reviews and Requests for Revocation in Part

AGENCY: Import Administration, International Trade Administration, Department of Commerce.

SUMMARY: The Department of Commerce (“the Department”) has received requests to conduct administrative reviews of various antidumping and countervailing duty orders and findings with July anniversary dates. In accordance with the Department's regulations, we are initiating those administrative reviews. The Department also received requests to revoke two antidumping duty orders in part.

DATES: Effective Date: August 26, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with July anniversary dates. The Department also received timely requests to revoke in part the antidumping duty orders on Certain Pasta from Italy for one exporter and on Stainless Steel Sheet and Strip in Coils from Taiwan for one exporter.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not-collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than July 31, 2012.

| Period to be reviewed
Antidumping Duty Proceedings
Finland: Purified Carboxymethylcellulose, A-405-803 | 7/1/10-6/30/11
CP Kelco Oy
India: Polyethylene Terephthalate (PET) Film, A-533-824 | 7/1/10-6/30/11
Ester Industries Limited
Garware Polyester Ltd.
Jindal Poly Films Limited of India
Polypacks Industries
Polyplex Corporation Ltd.
SRF Limited
Vacmet India Ltd.
Italy: Certain Pasta, A-475-818 | 7/1/10-6/30/11
Botticelli Mediterraneo S.a.r.l.2
Fiamma Vesuviana S.r.L.
Industria Alimentare Filiberto Bianconi 1947 S.p.A.
Labor S.r.L.
PAM. S.p.A. and its affiliate, Liguori Pastificio dal 1820 SpA
P.A.P. SNC Di Pazienza G.B. & C.
Premiato Pastificio Afeltra S.r.L.
Pasta Lensi S.r.l.
Pastaficio Zaffiri
Pastificio Attilio Mastromauro-Pasta Granoro S.R.L.³
Pastificio Di Martino Gaetano & F.lli SpA
Pastificio Fratelli Cellino, S.r.l.
Pastificio Lucio Garofalo S.p.A.
Pastificio Riscossa F.lli Mastromauro S.p.A.
Rummo S.p.A. Molino e Pastificio
Rustichella d'Abruzzo S.p.A.
Russian Federation: Solid Urea, A-821-801 | 7/1/10-6/30/11
OJSC MCC EuroChem, and production affiliates, OJSC Nevinnomyssky Azot and OJSC Novomoskovskaya Azot
Taiwan: Polyethylene Terephthalate Film, Sheet, and Strip, A-583-837 | 7/1/10-6/30/11
Nan Ya Plastics Corporation, Ltd.
Shinkong Materials Technology Co., Ltd.
Shinkong Synthetic Fibers Corporation
The Netherlands: Purified Carboxymethylcellulose, A-421-811 | 7/1/10-6/30/11
Akzo Nobel Functional Chemicals, B.V.
CP Kelco B.V.
The People's Republic of China:
Certain Oil Country Tubular Goods ⁴ A-570-943 | 5/19/10-4/30/11
Certain Polyester Staple Fiber, A-570-905 | 6/1/10-5/31/11
Jiaxing Fuda Chemical Fibre Factory ⁵
Certain Steel Grating,⁶ A-570-947 | 1/6/10-6/30/11
Ningbo Haitian International Co., Ltd.
Shanghai Minmetals Materials & Products Co., Ltd.
Yantai Xinke Steel Structure Co., Ltd.
Sinosteel Yantai Steel Grating Co., Ltd.
Ningbo Jiulong Machinery Manufacturing Co., Ltd.
Accurate Screen, Ltd.
Wuxi Juhua Import/Export Co., Ltd.
Well Forge Industries
Circular Welded Carbon Quality Steel Pipe,⁷ A-570-910 | 7/1/10-6/30/11
Adler Steel Ltd.
Al Jazeera Steel Products Co SAOG
Baoshan Iron & Steel Co., Ltd.
Benxi Northern Steel Pipes, Co. Ltd.
CNOOC Kingland Pipeline Co., Ltd.
ETCO (China) International Trading Co., Ltd.
Great River Trading International Co.
Guangzhou Juyi Steel Pipes Co., Ltd.
Hebei Zhongyuan Steel Pipe Manufacturer
Hefei Zijin Steel Tube Manufacturing Co., Ltd.
Huludao City Steel Pipe Industrial
Hunan Great Steel Pipe Co., Ltd.
Hunan Hengyang Steel Tube (Group) Co., Ltd.
Jiangsu Changbao Steel Tube Co., Ltd.
Jiangsu Yulong Steel Pipe Co., Ltd.
Liaoning Northern Steel Pipe Co., Ltd.
Shanghai Zhongyou Tipo Steel
Shanghai Zhongyou TIPO Steel Pipe Co., Ltd.
Sichuan YNJ Industries Co., Ltd.
SteelFORCE Far East Ltd.
Tianjin Baolai International Trade Co., Ltd.
Tianjin Huilitong Steel Tube Co., Ltd.
Tianjin Longshenghua Import & Export
Tianjin Shuangjie Steel Pipe Co., Ltd.
Tianjin Uniglory International Trade Co., Ltd.
Weifang East Steel Pipe Co., Ltd.
Wuxi Fastube Industry Co., Ltd.
Zhejiang Kingland Pipeline Industry Co., Ltd.
Zhuji Tri-Union Import & Export Co., Ltd.
Saccharin,⁸ A-570-878 | 7/1/10-6/30/11
Pingdingshan Coal Group Kaifeng Xinghua Fine Chemical Plant
Tianjin Changjie Chemical Co., Ltd.
Tianjin North Food Co., Ltd.
Hangzhou Embaiking Pharmaceutical Corp. Ltd.
Kingchem LLC
Escalade Ltd./Escalade Israel Ltd.
The High Trans Corporation
The Seicheng Chemical Company (“Seicheng”) (a.k.a. Sei-Cheng)
Yuan Shan Co. Ltd.
Sin-Ho Trading Co. Ltd. (“Sin-Ho”) (a.k.a. Xin He)
Long Hwang Chemicals Co. Ltd. (“Long Hwang”) (a.k.a. Lung Huang Trading)
Sun Disc Company, Ltd.
Turkey: Certain Pasta, A-489-805 | 7/1/10-6/30/11
TAT Makarnacilik Sanayi ve Ticaret A.S.
Marsan Gida Sanayi ve Ticaret A.S., and its affiliates:
Birlik Pazarlama Sanayi ve Ticaret A.S.
Bellini Gida Sanayi A.S.
Marsa Yag Sanayi ve Ticaret A.S.
Countervailing Duty Proceedings
India: Polyethylene Terephthalate (PET) Film, C-533-825 | 1/1/10-12/31/10
Ester Industries Limited
Garware Polyester Ltd.
Polyplex Corporation Ltd.
Jindal Poly Films Limited of India
SRF Limited
Vacmet India Limited
Polypacks Industries of India
Italy: Certain Pasta, C-475-819 | 1/1/10-12/31/10
Industria Alimentare Filiberto Bianconi 1947 S.p.A.
Molino e Pastificio Tomasello, S.p.A.
The People's Republic of China: Circular Welded Carbon Quality Steel Pipe, C-570-911 | 1/1/10-12/31/10
Baoshan Iron & Steel Co., Ltd.
Benxi Northern Steel Pipes, Co. Ltd.
CNOOC Kingland Pipeline Co., Ltd.
Guangzhou Juyi Steel Pipe Co., Ltd.
Hebei Zhongyuan Steel Pipe Manufacturer
Hefei Zijin Steel Tube Manufacturing Co., Ltd.
Huludao City Steel Pipe Industrial
Hunan Great Steel Pipe Co., Ltd.
Hunan Hengyang Steel Tube (Group) Co., Ltd.
Jiangsu Changbao Steel Tube Co., Ltd.
Jiangsu Yulong Steel Pipe Co., Ltd.
Liaoning Northern Steel Pipe Co., Ltd.
Liaoyang Steel Tube Co., Ltd.
Shanghai Zhongyou Tipo Steel
Tianjin Huilitong Steel Tube Co., Ltd.
Tianjin Shuangjie Steel Pipe Co., Ltd.
Weifang East Steel Pipe Co., Ltd.
Wuxi Fastube Industry Co., Ltd.
Zhejiang Kingland Pipeline Industry Co., Ltd.
Turkey: Certain Pasta, C-489-806 | 1/1/10-12/31/10
Marsan Gida Sanayi ve Ticaret A.S., and its affiliates:
Birlik Pazarlama Sanayi ve Ticaret A.S.
Bellini Gida Sanayi A.S.
Marsa Yag Sanayi ve Ticaret A.S.
Suspension Agreements
Russian Federation: Certain Hot-Rolled Carbon Steel Flat Products, A-821-809 | 7/1/10-6/30/11

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia S.p.A. v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

³ On August 31, 2010, the Department deferred the 7/1/2009—6/30/2010 administrative review for Pastificio Attilio Mastromauro-Pasta Granoro S.R.L. for one year (75 FR 53274). We are now initiating this review one year later along with the 7/1/2010—6/30/2011 administrative review.

⁴ In the initiation notice that was published on June 28, 2011 (76 FR 37781), the POR for the above referenced case was incorrect. The period listed above is the correct POR for this case.

⁵ The company listed was inadvertently omitted from the initiation notice that was published on July 28, 2011 (76 FR 45227).

For the first administrative review of any order, there will be no assessment of antidumping or countervailing duties on entries of subject merchandise entered, or withdrawn from warehouse, for consumption during the relevant provisional-measures “gap” period, of the order, if such a gap period is applicable to the POR.

⁶ If one of the above named companies does not qualify for a separate rate, all other exporters of Certain Steel Grating from the People's Republic of China (“PRC”) who have not qualified for a separate rate are deemed to be covered by this review as part of the single PRC entity of which the named exporters are a part.

⁷ If one of the above named companies does not qualify for a separate rate, all other exporters of Circular Welded Carbon Quality Steel Pipe from the PRC who have not qualified for a separate rate are deemed to be covered by this review as part of the single PRC entity of which the named exporters are a part.

⁸ If one of the above named companies does not qualify for a separate rate, all other exporters of Saccharin from the PRC who have not qualified for a separate rate are deemed to be covered by this review as part of the single PRC entity of which the named exporters are a part.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)), and 19 CFR 351.221(c)(1)(i).

Dated: August 19, 2011.
Christian Marsh,
Deputy Assistant Secretary for Antidumping and Countervailing Duty Operations.

[FR Doc. 2011-21948 Filed 8-25-11; 8:45 am]

BILLING CODE 3510-DS-P